DEPARTMENT OF HEALTH AND HUMAN SERVICES

Office of the Secretary

Delegation of Authorities

Notice is hereby given that I have delegated to the Administrator, Centers for Medicare & Medicaid Services (CMS), and the Director, Office of Intergovernmental and External Affairs (OIEA), the authorities under Sections 1701-1704 of the Public Health Service Act (PHSA) [42 U.S.C. 300u—300u-3], as amended.

Notwithstanding actions previously taken pursuant to other similar legal authorities, I hereby affirm and ratify any actions taken by the Administrator, CMS and Director, OIEA, which involved the exercise of the authorities under Sections 1701-1704 of the PHSA [42 U.S.C. 300u—300u-3], as amended, delegated herein prior to the effective date of this delegation of authorities.

Nothing in this delegation of authorities is intended to restrict the exercise of concurrent authorities under other statutory provisions.

This delegation of authorities excludes the authority to issue regulations and to submit reports to Congress.

These authorities shall be exercised under the Department's policy on regulations and the existing delegation of authority to approve and issue regulations.

This delegation of authorities is effective immediately.

These authorities may be re-delegated.

Authority: 44 U.S.C. 3101.

Dated: August 9, 2013.
Kathleen Sebelius,
Secretary.

[FR Doc. 2013-19967 Filed 8-15-13; 8:45 am]

BILLING CODE 4150-03-P